DEPARTMENT OF ENERGY

Federal Energy Regulatory Commission

Combined Notice of Filings #1

Take notice that the Commission received the following exempt wholesale generator filings:

Docket Numbers: EG14-64-000.

Applicants: Grand Ridge Energy Storage LLC.

Description: Notice of Self-Certification of Exempt Wholesale Generator Status of Grand Ridge Energy Storage LLC.

Filed Date: 6/16/14.

Accession Number: 20140616-5173.

Comments Due: 5 p.m. ET 7/7/14.

Docket Numbers: EG14-65-000.

Applicants: CED White River Solar 2, L.L.C.

Description: Notice of Self-Certification of Exempt Wholesale Generator Status of CED White River Solar 2, L.L.C.

Filed Date: 6/16/14.

Accession Number: 20140616-5206.

Comments Due: 5 p.m. ET 7/7/14.

Docket Numbers: EG14-66-000.

Applicants: CED White River Solar, L.L.C.

Description: Notice of Self-Certification of Exempt Wholesale Generator Status of CED White River Solar, L.L.C.

Filed Date: 6/16/14.

Accession Number: 20140616-5207.

Comments Due: 5 p.m. ET 7/7/14.

Take notice that the Commission received the following electric rate filings:

Docket Numbers: ER13-65-002.

Applicants: Deseret Generation & Transmission Co-operative, Inc.

Description: OATT Order No. 1000 Third Regional Compliance Filing to be effective 6/13/2014.

Filed Date: 6/13/14.

Accession Number: 20140613-5089.

Comments Due: 5 p.m. ET 7/7/14.

Docket Numbers: ER13-67-002.

Applicants: NorthWestern Corporation.

Description: Order No. 1000 Third Regional Compliance Filing—Montana OATT to be effective 6/13/2014.

Filed Date: 6/13/14.

Accession Number: 20140613-5090.

Comments Due: 5 p.m. ET 7/7/14.

Docket Numbers: ER13-68-002.

Applicants: Portland General Electric Company.

Description: Att K Regional Comp Filing 2 to be effective 6/13/2014.

Filed Date: 6/13/14.

Accession Number: 20140613-5143.

Comments Due: 5 p.m. ET 7/7/14.

Docket Numbers: ER14-2009-001.

Applicants: Southwest Power Pool, Inc.

Description: 2562 S-R1 Kansas Municipal Energy Agency NITSA and NOA to be effective 5/1/2014.

Filed Date: 6/13/14.

Accession Number: 20140613-5074.

Comments Due: 5 p.m. ET 7/7/14.

Docket Numbers: ER14-2102-000.

Applicants: Danskammer Energy, LLC.

Description: Supplement to June 2, 2014 Danskammer Energy, LLC tariff filing.

Filed Date: 6/13/14.

Accession Number: 20140613-5218.

Comments Due: 5 p.m. ET 6/23/14.

Docket Numbers: ER14-2177-000.

Applicants: Southwest Power Pool, Inc.

Description: 2824R2 KMEA & Sunflower Meter Agent Agreement to be effective 6/1/2014.

Filed Date: 6/13/14.

Accession Number: 20140613-5064.

Comments Due: 5 p.m. ET 7/7/14.

Docket Numbers: ER14-2178-000.

Applicants: Idaho Power Company.

Description: OATT Order No. 1000 Third Regional Compliance Filing to be effective 6/13/2014.

Filed Date: 6/13/14.

Accession Number: 20140613-5065.

Comments Due: 5 p.m. ET 7/7/14.

Docket Numbers: ER14-2179-000.

Applicants: PJM Interconnection, L.L.C.

Description: Queue No. W4-015; First Revised Service Agreement No. 2962 to be effective 5/14/2014.

Filed Date: 6/13/14.

Accession Number: 20140613-5077.

Comments Due: 5 p.m. ET 7/7/14.

Docket Numbers: ER14-2180-000.

Applicants: Midcontinent Independent System Operator, Inc.

Description: 2014-06-13_Schedule 43 Escanaba Renewal to be effective 6/15/2014.

Filed Date: 6/13/14.

Accession Number: 20140613-5079.

Comments Due: 5 p.m. ET 7/7/14.

Docket Numbers: ER14-2181-000.

Applicants: PJM Interconnection, L.L.C.

Description: Ministerial Clean Up re OA Schedule 12 and RAA Schedule 17 Membership Lists to be effective 4/24/2014.

Filed Date: 6/13/14.

Accession Number: 20140613-5111.

Comments Due: 5 p.m. ET 7/7/14.

Docket Numbers: ER14-2182-000.

Applicants: PacifiCorp.

Description: OATT Order No. 1000 Third Regional Compliance Filing to be effective 6/13/2014.

Filed Date: 6/13/14.

Accession Number: 20140613-5118.

Comments Due: 5 p.m. ET 7/7/14.

Docket Numbers: ER14-2183-000.

Applicants: Portland General Electric Company.

Description: NTTG Funding Agreement to be effective 6/13/2014.

Filed Date: 6/13/14.

Accession Number: 20140613-5141.

Comments Due: 5 p.m. ET 7/7/14.

Docket Numbers: ER14-2184-000.

Applicants: Southwest Power Pool, Inc.

Description: Notice of Cancellation of KPP/Westar Ancillary Services Agreement SA 1136R3 of Southwest Power Pool, Inc.

Filed Date: 6/13/14.

Accession Number: 20140613-5209.

Comments Due: 5 p.m. ET 7/7/14.

Docket Numbers: ER14-2185-000.

Applicants: EFS Parlin Holdings, LLC.

Description: Revision of market-based rate tariff to be effective 6/17/2014.

Filed Date: 6/16/14.

Accession Number: 20140616-5070.

Comments Due: 5 p.m. ET 7/7/14.

Docket Numbers: ER14-2186-000.

Applicants: PJM Interconnection, L.L.C.

Description: Revisions to the PJM OATT & OA re Tier 2 Sync Reserve Aggregation of Penalties to be effective 8/15/2014.

Filed Date: 6/16/14.

Accession Number: 20140616-5085.

Comments Due: 5 p.m. ET 7/7/14.

Docket Numbers: ER14-2187-000.

Applicants: Grand Ridge Energy Storage LLC.

Description: Application for Market-Based Rate Authorization to be effective 8/16/2014.

Filed Date: 6/16/14.

Accession Number: 20140616-5141.

Comments Due: 5 p.m. ET 7/7/14.

Docket Numbers: ER14-2188-000.

Applicants: The Dayton Power and Light Company.

Description: FERC Rate Schedule No. 41, City of Piqua to be effective 6/16/2014.

Filed Date: 6/16/14.

Accession Number: 20140616-5147.

Comments Due: 5 p.m. ET 7/7/14.

Docket Numbers: ER14-2189-000.

Applicants: Grand Ridge Energy LLC.

Description: Filing of Amended Assignment, Co-Tenancy, and Shared Facilities Agreement to be effective 8/16/2014.

Filed Date: 6/16/14.

Accession Number: 20140616-5154.

Comments Due: 5 p.m. ET 7/7/14.

Docket Numbers: ER14-2190-000.

Applicants: Grand Ridge Energy II LLC.

Description: Filing of Amended Assignment, Co-Tenancy, and Shared Facilities Agreement to be effective 8/16/2014.

Filed Date: 6/16/14.

Accession Number: 20140616-5156.

Comments Due: 5 p.m. ET 7/7/14.

Docket Numbers: ER14-2191-000.

Applicants: Grand Ridge Energy III LLC.

Description: Filing of Amended Assignment, Co-Tenancy, and Shared Facilities Agreement to be effective 8/16/2014.

Filed Date: 6/16/14.

Accession Number: 20140616-5158.

Comments Due: 5 p.m. ET 7/7/14.

Docket Numbers: ER14-2192-000.

Applicants: Grand Ridge Energy IV LLC.

Description: Filing of Amended Assignment, Co-Tenancy, and Shared Facilities Agreement to be effective 8/16/2014.

Filed Date: 6/16/14.

Accession Number: 20140616-5159.

Comments Due: 5 p.m. ET 7/7/14.

Docket Numbers: ER14-2193-000.

Applicants: Grand Ridge Energy V LLC.

Description: Filing of Amended Assignment, Co-Tenancy, and Shared Facilities Agreement to be effective 8/16/2014.

Filed Date: 6/16/14.

Accession Number: 20140616-5160.

Comments Due: 5 p.m. ET 7/7/14.

Docket Numbers: ER14-2194-000.

Applicants: Grand Ridge Energy Storage LLC.

Description: of Amended Assignment, Co-Tenancy, and Shared Facilities Agreement to be effective 8/16/2014.

Filed Date: 6/16/14.

Accession Number: 20140616-5161.

Comments Due: 5 p.m. ET 7/7/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2014.
Nathaniel J. Davis, Sr.,
Deputy Secretary.

[FR Doc. 2014-14640 Filed 6-23-14; 8:45 am]

BILLING CODE 6717-01-P